POSTAL SERVICE

39 CFR Part 111

Priority Mail Express Refunds

AGENCY: Postal Service™.

ACTION: Final rule.

SUMMARY: The Postal Service is amending Mailing Standards of the United States Postal Service, Domestic Mail Manual (DMM®) to discontinue Priority Mail Express® postage refunds for guaranteed service for Alaska and Hawaii.

DATES: Effective August 1, 2023.

FOR FURTHER INFORMATION CONTACT: Catherine Knox at (202) 268-5636 or Garry Rodriguez at (202) 268-7281.

SUPPLEMENTARY INFORMATION: On May 23, 2023, the Postal Service published a notice of proposed rulemaking (88 FR 33066) to discontinue Priority Mail Express postage refunds for guaranteed service for Alaska and Hawaii. The Postal Service did not receive any formal comments.

The Postal Service has determined that operationally we cannot meet the service commitments for Priority Mail Express expected by customers for Alaska and Hawaii.

As a result, the Postal Service is discontinuing postage refunds for guaranteed service for Priority Mail Express pieces destined to or originating from Alaska or Hawaii. Postage refunds for loss will still be available for pieces destined to or originating from Alaska or Hawaii.

We believe this revision will provide customers with a more efficient mailing experience.

The Postal Service adopts the described changes to Mailing Standards of the United States Postal Service, Domestic Mail Manual (DMM), incorporated by reference in the Code of Federal Regulations. We will publish an appropriate amendment to 39 CFR part 111 to reflect these changes.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

600 Basic Standards for All Mailing Services

* * * * *

604 Postage Payment Methods and Refunds

* * * * *

9.0 Exchanges and Refunds

* * * * *

9.5 Priority Mail Express Postage and Fees Refunds

* * * * *

9.5.5 Refunds Not Given

Postage will not be refunded if the guaranteed service was not provided due to any of the following circumstances:

* * * * *

[Renumber items i and j as j and k, and add new item i to read as follows:]

i. The postage refund requested is other than for loss, and the Priority Mail Express piece was destined to or originated from Alaska or Hawaii.

* * * * *

Sarah Sullivan,
Attorney, Ethics & Legal Compliance.

[FR Doc. 2023-13942 Filed 6-29-23; 8:45 am]

BILLING CODE P